DEPARTMENT OF TRANSPORTATION

Federal Aviation Administration

14 CFR Part 95

[Docket No. 30760; Amdt. No. 491]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, January 13, 2011.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on December 16, 2010.
John M. Allen,
Director, Flight Standards Service.

Adoption of the Amendment

Accordingly, pursuant to the authority delegated to me by the Administrator, part 95 of the Federal Aviation Regulations (14 CFR part 95) is amended as follows effective at 0901 UTC, June 03, 2010.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 491 Effective Date, January 13, 2011]
From | To | MEA | MAA
§ 95.3000 Low Altitude RNAV Routes
§ 95.3227 RNAV Route T227 Is Amended To Read in Part
Port Heiden, AK NDB/DME | Culti, AK FIX | *3700 | 17500
*1900—MOCA
Culti, AK FIX | Batty, AK FIX | *6100 | 17500
*5400—MOCA
Batty, AK FIX | *Amott, AK FIX | **13000 | 17500
*5200—MCA Amott, AK FIX, SW BND
**12300—MOCA
§ 95.3266 RNAV Route T266 Is Amended To Read in Part
Coghlan Island, AK NDB | Fredericks Point, AK NDB | 6500 | 17500
Is amended by adding
Fredericks Point, AK NDB | Annette Island, AK VOR/DME | 6200 | 17500
§ 95.3267 RNAV Route T267 Is Added To Read
Nome, AK VOR/DME | Jiksa, AK FIX | *6700 | 17500
*6000—MOCA
Jiksa, AK FIX | Balin, AK FIX | *3400 | 17500
*2700—MOCA
Is Amended To Read in Part
Balin, AK FIX | Kotzebue, AK VOR/DME | *3300 | 17500
*2600—MOCA
§ 95.3271 RNAV Route T271 Is added To read
Cold Bay, AK VORTAC | Binal, AK FIX | 4400 | 17500
Binal, AK FIX | King Salmon, AK VORTAC | 2700 | 17500
King Salmon, AK VORTAC | Jivco, AK FIX | 3000 | 17500
Jivco, AK FIX | Wolci, AK FIX | 4000 | 17500
Wolci, AK FIX | *Widva, AK FIX | 7000 | 17500
*8000—MCA Widva, AK FIX, NE BND
Widva, AK FIX | *Zinam, AK FIX | 11800 | 17500
*10700—MCA Zinam, AK FIX, SW BND
Zinam, AK FIX | Amott, AK FIX | 2500 | 17500
§ 95.3273 RNAV Route T273 Is Amended To Read in Part
Fairbanks, AK VORTAC | Aykid, AK FIX | 6700 | 17500
Aykid, AK FIX | Tuvvo, AK FIX | 6000 | 17500
Tuvvo, AK FIX | *Sotge, AK FIX | 11300 | 17500
*8000—MCA Sotge, AK FIX, S BND
Sotge, AK FIX | Roces, AK FIX | *4000 | 17500
*2800—MOCA
§ 95.3277 RNAV Route T277 Is Amended To Read in Part
Bettles, AK VOR/DME | Jigti, AK FIX | *6000 | 17500
*4000—MOCA
Jigti, AK FIX | Nokfe, AK FIX | *8000 | 17500
*7000—MOCA
Nokfe, AK FIX | Vovuy, AK FIX | *10300 | 17500
*9400—MOCA
Vovuy, AK FIX | Epeho, AK FIX | *16000 | 17500
*9500—MOCA
Epeho, AK FIX | Point Lay, AK NDB | *6400 | 17500
*5500—MOCA
§ 95.4000 High Altitude RNAV Routes
§ 95.4008 RNAV Route Q8 Is Amended To Read in Part
Galena, AK VOR/DME | Anchorage, AK VOR/DME | 18000 | 45000

From | To | MEA
§ 95.6001 Victor Routes—U.S.
§ 95.6002 VOR Federal Airway V2 Is Amended To Read in Part
Spokane, WA VORTAC | Ropes, WA FIX | 7100
Ropes, WA FIX | Mullan Pass, ID VOR/DME | 9100
Mullan Pass, ID VOR/DME | Alton, MT FIX | 9600
Alton, MT FIX | Missoula, MT VOR/DME
| SE BND | *9000
| NW BND | *9600
*8500—MOCA
§ 95.6005 VOR Federal Airway V5 Is Amended To Read in Part
Shirt, OH FIX | *Gloom, OH FIX | 3000
*4000—MRA
*Gloom, OH FIX | Appleton, OH VORTAC | 3000
*4000—MRA
Appleton, OH VORTAC | Mansfield, OH VORTAC | 3000
Mansfield, OH VORTAC | Dryer, OH VOR/DME | 3000
§ 95.6006 VOR Federal Airway V6 Is Amended To Read in Part
Dryer, OH VOR/DME | Morow, OH FIX | 3100
Morow, OH FIX | Hires, OH FIX | *5000
*2700—MOCA
*3000—GNSS MEA
Hires, OH FIX | Youngstown, OH VORTAC | 2900
Youngstown, OH VORTAC | Mercy, PA FIX | *5000
*3000—MOCA
*3000—GNSS MEA
Mercy, PA FIX | Clarion, PA VOR/DME | 3600
§ 95.6007 VOR Federal Airway V7 Is Amended To Read in Part
Lee County, FL VORTAC | Jocks, FL FIX | 2600
Jocks, FL FIX | *Crowd, FL FIX | **2300
*5000—MRA
**1600—MOCA
*Crowd, FL FIX | Lakeland, FL VORTAC | 2300
*5000—MRA
*Orate, FL FIX | Cross City, FL VORTAC | **2000
*3000—MRA
**1500—MOCA
§ 95.6009 VOR Federal Airway V9 Is Amended To Read in Part
Safes, LA FIX | Wavez, LA FIX | *4000
*1600—MOCA
§ 95.6010 VOR Federal Airway V10 Is Amended To Read in Part
U.S. Canadian Border | Fails, OH FIX | *4000
*1800—MOCA
*2300—GNSS MEA
Fails, OH FIX | *Wonop, OH FIX | **3000
*5000—MRA
**2000—MOCA
*Wonop, OH FIX | Youngstown, OH VORTAC | **5000
*5000—MRA
**2700—MOCA
**3000—GNSS MEA
Youngstown, OH VORTAC | Volan, PA FIX | *5000
*3000—MOCA
*3000—GNSS MEA
Volan, PA FIX | Talls, PA FIX | *5000
*3200—MOCA
*3300—GNSS MEA
Talls, PA FIX | Revloc, PA VOR/DME | 4100
§ 95.6026 VOR Federal Airway V26 Is Amended To Read in Part
*Obitt, SD FIX | Ghent, MN FIX | **6000
*5000—MRA
**3400—MOCA
**4000—GNSS MEA
§ 95.6029 VOR Federal Airway V29 Is Amended To Read in Part
Watertown, NY VORTAC | *Letus, NY FIX | **3000
*4000—MRA
**1900—MOCA
Letus, NY FIX | #Massena, NY VORTAC | *3000
*GNSS MEA ONLY
#Massena R-255 Unusable. GNSS Required
§ 95.6054 VOR Federal Airway V54 Is Amended To Read in Part
Sandhills, NC VORTAC | Raefo, NC FIX | *6000
*2000—MOCA
*3000—GNSS MEA
§ 95.6059 VOR Federal Airway V59 Is Amended To Read in Part
Parkersburg, WV VORTAC | Newcomerstown, OH VOR/DME | 3000
§ 95.6076 VOR Federal Airway V76 Is Amended To Read in Part
Big Spring, TX VORTAC | *Hyman, TX FIX | 4500
*5000—MRA
*Hyman, TX FIX | **Wator, TX FIX | 4500
*5000—MRA
**7000—MRA
§ 95.6081 VOR Federal Airway V81 Is Amended To Read in Part
Panhandle, TX VORTAC | Lantt, TX FIX | 6100
Lantt, TX FIX | Exell, TX FIX | 5400
Exell, TX FIX | Dalhart, TX VORTAC | 5900
§ 95.6094 VOR Federal Airway V94 Is Amended To Read in Part
Monroe, LA VORTAC | Greenville, MS VOR/DME | 2100
§ 95.6098 VOR Federal Airway V98 Is Amended To Read in Part
U.S. Canadian Border | Massena, NY VORTAC | 2100
#Massena, NY VORTAC | U.S. Canadian Border | *2100
*2100—GNSS MEA
*GNSS MEA ONLY
#Massena R-085 Unusable. GNSS Required
§ 95.6104 VOR Federal Airway V104 Is Amended To Read in Part
U.S. Canadian Border | #Massena, NY VORTAC | *2100
*1600—MOCA
*GNSS MEA ONLY
#Massena R-314 Unusable. GNSS Required
#Massena, NY VORTAC | Malae, NY FIX | *3500
*2700—MOCA
*GNSS MEA ONLY
#Massena R-119 Unusable. GNSS Required
Malae, NY FIX | Plattsburgh, NY VORTAC | 6100
§ 95.6115 VOR Federal Airway V115 Is Amended To Read in Part
Parkersburg, WV VORTAC | Newcomerstown, OH VOR/DME | 3000
§ 95.6120 VOR Federal Airway V120 Is Amended To Read in Part
Karps, ID FIX | Mullan Pass, ID VOR/DME | 9100
Mullan Pass, ID VOR/DME | Charl, MT FIX | *13000
*9600—MOCA
Charl, MT FIX | *Shimy, MT FIX | **13000
*7000—MRA
*7900—MCA Shimy, MT FIX, W BND
**12100—MOCA
*Shimy, MT FIX | Great Falls, MT VORTAC | 6800
*7000—MRA
§ 95.6121 VOR Federal Airway V121 Is Amended To Read in Part
Fort Jones, CA VOR/DME | *Bayts, OR FIX | **10000
*10000—MRA
*9000—MCA BAYTS, OR FIX, S BND
**9400—MOCA
*Bayts, OR FIX | Rogue Valley, OR VORTAC | **8000
*10000—MRA
**7500—MOCA
§ 95.6138 VOR Federal Airway V138 Is Amended To Read in Part
Grand Island, NE VORTAC | Brady, NE FIX | 3600
Omaha, IA VORTAC | *Madup, IA FIX | **4500
*5500—MRA
**2900—MOCA
**3000—GNSS MEA
*Madup, IA FIX | Fort Dodge, IA VORTAC | **3900
*5500—MRA
**2900—MOCA
**3000—GNSS MEA
§ 95.6141 VOR Federal Airway V141 Is Amended To Read in Part
#Burlington, VT VOR/DME | Bugsy, NY FIX | *9000
*5100—MOCA
*5500—GNSS MEA
#Massena R-129 Unusable. Use Burlington R-311
Bugsy, NY FIX | #Massena, NY VORTAC | *9000
*4000—MOCA
*4000—GNSS MEA
#Massena R-129 Unusable. Use Burlington R-311
§ 95.6152 VOR Federal Airway V152 Is Amended To Read in Part
St Petersburg, FL VORTAC | Jensn, FL FIX | *4000
*2500—MOCA
*2500—GNSS MEA
§ 95.6175 VOR Federal Airway V175 Is Amended To Read in Part
Worthington, MN VOR/DME | Redwood Falls, MN VOR/DME | 3400
§ 95.6188 VOR Federal Airway V188 Is Amended To Read in Part
U.S. Canadian Border | Fails, OH FIX | *4000
*1800—MOCA
*2300—GNSS MEA
Fails, OH FIX | *Wonop, OH FIX | **3000
*5000—MRA
**2000—MOCA
*Wonop, OH FIX | Cleri, OH FIX | **3000
*5000—MRA
**2200—MOCA
Cleri, OH FIX | Jefferson, OH VOR/DME | *3000
*2400—MOCA
§ 95.6203 VOR Federal Airway V203 Is Amended To Read in Part
#Saranac Lake, NY VOR/DME | #Massena, NY VORTAC | *10000
*4500—MOCA
*5000—GNSS MEA
#Massena R-159 Unusable. Use Saranac Lake R-339
#Massena, NY VORTAC | U.S. Canadian Border | *14000
*1500—MOCA
*2000—GNSS MEA
§ 95.6210 VOR Federal Airway V210 Is Amended To Read in Part
Volan, PA FIX | Talls, PA FIX | *5000
*3200—MOCA
*3300—GNSS MEA
Talls, PA FIX | Revloc, PA VOR/DME | 4100
§ 95.6214 VOR Federal Airway V214 Is Amended To Read in Part
*Gloom, OH FIX | Zanesville, OH VOR/DME | **4000
*4000—MRA
**2600—MOCA
**3000—GNSS MEA
§ 95.6236 VOR Federal Airway V236 Is Amended To Read in Part
Emont, UT FIX | #Ogden, UT VORTAC | *8000
*7000—MOCA
#MTA V236 NE TO V21-101 SE 12000
§ 95.6265 VOR Federal Airway V265 Is Amended To Read in Part
Dunkirk, NY VORTAC | U.S. Canadian Border | 2400
§ 95.6297 VOR Federal Airway V297 Is Amended To Read in Part
Talls, PA FIX | Volan, PA FIX | *5000
*3200—MOCA
*3300—GNSS MEA
§ 95.6415 VOR Federal Airway V415 Is Amended To Read in Part
Felto, GA FIX | Gorgo, GA FIX | *5000
*4000—MOCA
Gorgo, GA FIX | Rome, GA VORTAC | 4000
§ 95.6417 VOR Federal Airway V417 Is Amended To Read in Part
Vulcan, AL VORTAC | Rome, GA VORTAC | 4000
§ 95.6455 VOR Federal Airway V455 Is Amended To Read in Part
Reserve, LA VOR/DME | Picayune, MS VOR/DME | 2000
§ 95.6495 VOR Federal Airway V495 Is Amended To Read in Part
Roseburg, OR VOR/DME | Merli, OR FIX | *8000
*7500—MOCA
Merli, OR FIX | *Paple, OR FIX | **9000
*10100—MRA
**6500—MOCA
*Paple, OR FIX | **Bayts, OR FIX | ***10100
*10100—MRA
**10000—MRA
***7300—MOCA
*Bayts, OR FIX | Fort Jones, CA VOR/DME | **10000
*10000—MRA
**9400—MOCA
§ 95.6505 VOR Federal Airway V505 Is Amended To Read in Part
Mason City, IA VORTAC | Freed, MN FIX | 3000
Freed, MN FIX | *Almay, MN FIX | **4600
*5000—MRA
**2800—MOCA
§ 95.6521 VOR Federal Airway V521 Is Amended To Read in Part
*Orate, FL FIX | **Cross City, FL VORTAC | ***2000
*3000—MRA
**5000—MCA CROSS CITY, FL VORTAC, W BND
**1500—MOCA
§ 95.6537 VOR Federal Airway V537 Is Amended To Read in Part
Greenville, FL VORTAC | Moultrie, GA VOR/DME | *5000
*1600—MOCA
*2000—GNSS MEA
§ 95.6542 VOR Federal Airway V542 Is Amended To Read in Part
Youngstown, OH VORTAC | Hagar, PA FIX | 3000
Hagar, PA FIX | Tidioute, PA VORTAC | 3600
§ 95.6543 VOR Federal Airway V543 Is Amended To Read in Part
Safes, LA FIX | Wavez, LA FIX | *4000
*1600—MOCA
§ 95.6319 Alaska VOR Federal Airway V319 Is Amended To Read in Part
Malas, AK FIX | Katat, AK FIX | #*10000
*5600—MOCA
#MEA is established with a gap in navigation signal coverage
Yonek, AK FIX | *Torte, AK FIX
| SW BND | **12000
| NE BND | **6000
*8100—MCA Torte, AK FIX, W BND
**4200—MOCA
§ 95.6452 Alaska VOR Federal Airway V452 Is Amended To Read in Part
Galena, AK VOR/DME | Zomby, AK FIX | *4000
*3300—MOCA
*3300—GNSS MEA
Zomby, AK FIX | *Horsi, AK FIX
| E BND | **8000
| W BND | **4000
*8000—MRA
**4000—MOCA
**4000—GNSS MEA
*Horsi, AK FIX | Bonet, AK FIX | **8000
*8000—MRA
**4000—MOCA
**4000—GNSS MEA
Bonet, AK FIX | Nenana, AK VORTAC | *7000
*4400—MOCA
*4400—GNSS MEA
§ 95.6453 Alaska VOR Federal Airway V453 Is Amended To Read in Part
Bethel, AK VORTAC | Wapro, AK FIX | *9000
*4300—MOCA
Wapro, AK FIX | Unalakleet, AK VOR/DME | *11000
*5100—MOCA
§ 95.6489 Alaska VOR Federal Airway V489 Is Amended To Read in Part
Galena, AK VOR/DME | Zomby, AK FIX | *4000
*3300—MOCA
*3300—GNSS MEA
Zomby, AK FIX | *Horsi, AK FIX
| E BND | **8000
| W BND | **4000
*8000—MRA
**4000—MOCA
**4000—GNSS MEA

From | To | MEA | MAA
§ 95.7001 Jet Routes
§ 95.7507 Jet Route J507 Is Amended To Read in Part
Northway, AK VORTAC | U.S. Canadian Border | #21000 | 45000
#For that airspace over U.S. territory | U.S. Canadian Border | Yakutat, AK VOR/DME | #22000 | 45000
#For that airspace over U.S. territory
§ 95.7511 Jet Route J511 Is Amended To Read in Part
Gulkana, AK VOR/DME | U.S. Canadian Border | #18000 | 45000
#For that airspace over U.S. territory
§ 95.7537 Jet Route J537 Is Amended To Read in Part
#Mullan Pass, ID VOR/DME | U.S. Canadian Border | *18000 | 45000
*GNSS MEA, GNSS Required
#Mullan Pass R-357 Unusable

Airway Segment: From | Airway Segment: To | Changeover Points: Distance | Changeover Points: From
§ 95.8003 VOR Federal Airway Changeover Points
V5 Is Amended To Modify Changeover Point
Appleton, OH VORTAC | Mansfield, OH VORTAC | 28 | Appleton
V6 Is Amended To Add Changeover Point
Dryer, OH VOR/DME | Youngstown, OH VORTAC | 39 | Dryer
Youngstown, OH VORTAC | Clarion, PA VOR/DME | 20 | Youngstown
V59 Is Amended To Delete Changeover Point
Parkersburg, WV VORTAC | Newcomerstown, OH VOR/DME | 25 | Parkersburg
V115 Is Amended To Delete Changeover Point
Parkersburg, WV VORTAC | Newcomerstown, OH VOR/DME | 25 | Parkersburg
V542 Is Amended To Add Changeover Point
Youngstown, OH VORTAC | Tidioute, PA VORTAC | 21 | Youngstown
Alaska V453 Is Amended To Modify Changeover Point
Bethel, AK VORTAC | Unalakleet, AK VOR/DME | 109 | Bethel
§ 95.8005 Jet Routes Changeover Points
J537 Is Amended To Delete Changeover Point
Mullan Pass, ID VOR/DME | Calgary, CA VORTAC | 95 | Mullan Pass

[FR Doc. 2010-32233 Filed 12-29-10; 8:45 am]

BILLING CODE 4910-13-P